DEPARTMENT OF THE INTERIOR

Bureau of Land Management

[LLCOG000000-L18200000-234L1109AF]

Northwest Resource Advisory Council Schedule of Quarterly Public Meetings, Colorado

AGENCY: Bureau of Land Management, Interior.

ACTION: Notice of public meetings.

SUMMARY: In accordance with the Federal Land Policy and Management Act of 1976 and the Federal Advisory Committee Act of 1972, the U.S. Department of the Interior, Bureau of Land Management (BLM) Colorado's Northwest Resource Advisory Council (RAC) is announcing three public meetings.

DATES: The Northwest Colorado RAC will meet in 2023 as follows:

• The RAC will host a field tour on January 25 and a meeting on January 26.

• The RAC will host a field tour on June 21 and a meeting on June 22.

• The RAC will host a field tour on October 4 and a meeting on October 5.

All field tours will be held from 10 a.m. to 4 p.m. but may conclude earlier depending on the needs of the group. All meetings will be held from 8 a.m. to 3 p.m. All field tours and meetings are open to the public.

ADDRESSES:

• The January 25 field tour will commence at the Grand Junction Field Office, 2815 H Road Grand Junction, CO 81503. Attendees will then travel to McInnis Canyons National Conservation Area. The January 26 meeting will be held at the Grand Junction Field Office.

• The June 21 field tour will commence at the Kremmling Field Office, 2103 E Park Ave., Kremmling, CO 80459. Attendees will then travel to the Upper Colorado River Special Recreation Management Area. The June 22 meeting will be held at the Kremmling Field Office.

• The October 4 field tour will commence at the White River Field Office, 220 E Market St., Meeker, CO 81641. Attendees will travel to the Hunter Fire burn scar. The October 5 meeting will be held at the White River Field Office.

Virtual participation options will also be available for the meeting dates. Registration and participation information will be available on the RAC's web page 30 days in advance of the meetings on the RAC's web page at https://www.blm.gov/get-involved/resource-advisory-council/near-you/colorado/northwest-rac.

FOR FURTHER INFORMATION CONTACT: Greg Larson, District Manager; BLM Upper Colorado River District Office, 2815 H Road Street, Grand Junction, Colorado 81506; telephone: 970-244-3000; email: glarson@blm.gov. Individuals in the United States who are deaf, deafblind, hard of hearing, or have a speech disability may dial 711 (TTY, TDD, or TeleBraille) to access telecommunications relay services for contacting Greg Larson. Individuals outside the United States should use the relay services offered within their country to make international calls to the point-of-contact in the United States.

SUPPLEMENTARY INFORMATION: The 15-member Northwest Colorado RAC advises the Secretary of the Interior, through the BLM, on a variety of public land issues in the Northwest and Upper Colorado River Districts, including the White River, Kremmling, Little Snake, Colorado River Valley, and Grand Junction Field Offices, and the the Dominguez-Escalante and McInnis Canyons National Conservation Areas. The RAC will conduct a field tour on January 25 of past land acquisitions in McInnis Canyons National Conservation Area. The January 26 meeting will focus on land tenure within the RAC's jurisdiction, Gunnison River permits, and field manager updates. The RAC will conduct a field tour on June 21 to the Upper Colorado River Special Recreation Management Area within the Kremmling Field Office. The June 22 meeting will include a review and discussion on river recreation management, grazing, and field manager updates. The RAC will conduct a field tour on October 4 of the Hunt Fire burn scar within the White River Field Office. The October 5 meeting will include a review and discussion of the Hunt Fire, BLM fire management, and field manager updates.

Public comment periods are scheduled for 2:00 p.m. at the January, June, and October meetings. Contingent on the number of people who wish to comment during the public comment period, individual comments may be limited. Written comments received at least 2 weeks prior to the meetings will be provided in advance to RAC members (see FOR FURTHER INFORATION CONTACT). Please include “RAC Comment” in your submission.

Before including your address, phone number, email address, or other personal identifying information in your comment, you should be aware that your entire comment, including your personal identifying information, may be made publicly available at any time. While you can ask us in your comment to withhold your personal identifying information from public review, we cannot guarantee that we will be able to do so.

Members of the public are welcome on field tours but must provide their own transportation and meals. Individuals who plan to attend must RSVP to the BLM Upper Colorado River District Office at least two weeks in advance of the field tours to the contact listed in the FOR FURTHER INFORMATION CONTACT section of this Notice. Individuals that need special assistance, such as sign language interpretation and other reasonable accommodations, should contact the BLM (see FOR FURTHER INFORMATION CONTACT). The field tours will follow current Centers for Disease Control and Prevention COVID-19 guidance regarding social distancing and wearing of masks. Additional information regarding the meetings will be available on the RAC's web page at https://www.blm.gov/get-involved/resource-advisory-council/near-you/colorado/northwest-rac.

Detailed minutes for the RAC meetings will be maintained in the Upper Colorado River District Office and will be available for public inspection and reproduction during regular business hours within thirty (30) days following the meeting. Previous minutes and agendas are also available on the RAC's web page.

(Authority: 43 CFR 1784.4-2)

Douglas J. Vilsack,
BLM Colorado State Director.

[FR Doc. 2023-00301 Filed 1-9-23; 8:45 am]

BILLING CODE 4310-JB-P